ENVIRONMENTAL PROTECTION AGENCY

[OW-2003-0064, FRL-7562-5]

National Clean Water Act Recognition Awards; Presentation of Awards at the Water Environment Federation's Technical Exposition and Conference (WEFTEC), and Announcement of 2003 National Awards Winners.

AGENCY: Environmental Protection Agency (EPA).

ACTION: Notice.

SUMMARY: The Environmental Protection Agency will recognize municipalities and industries for outstanding and innovative technological achievements in wastewater treatment and pollution abatement programs at the annual National Clean Water Act Recognition Awards Ceremony. An inscribed plaque will be presented at the Ceremony during the Water Environment Federation's Technical Exposition and Conference (WEFTEC) in Los Angeles, California. We are recognizing projects and programs for excellence in five awards categories including operations and maintenance at wastewater treatment facilities, biosolids management, pretreatment, storm water management, and combined sewer overflow controls. This action also announces the 2003 national awards winners.

DATES: Monday, October 13, 2003, 11:30 a.m. to 1 p.m.

ADDRESSES: The national awards presentation ceremony will be held at the Los Angeles Convention Center, 1201 S. Figueroa Street, Los Angeles, California.

FOR FURTHER INFORMATION CONTACT: Maria E. Campbell, Telephone: (202) 564-0628. Facsimile Number: (202) 501-2396, or e-mail: campbell.maria@epa.gov.

SUPPLEMENTARY INFORMATION: The National Clean Water Act Recognition Awards program is authorized under Clean Water Act section 501 (a) and (e), 33 U.S.C. 1361(a) and (e). The awards program provides national recognition and heightens overall public awareness of programs developed to protect the public's health and safety and the nation's water quality. A regulation at 40 CFR part 105 establishes a framework for the annual recognition awards program. EPA announced the availability of application and nomination information for this year's awards (68 FR 11858, March 12, 2003). State water pollution control agencies and EPA regional offices make recommendations to headquarters for the national awards. Programs being recognized are in compliance with applicable water quality requirements and have a satisfactory record with respect to environmental quality. Recognition is made for their demonstrated achievements in the awards program categories as follows:

(1) Excellent operations and maintenance practices at wastewater treatment facilities;

(2) Biosolids management through operating projects, and special biosolids management achievements;

(3) Municipal implementation and enforcement of local pretreatment programs;

(4) Storm Water Management excellence; and

(5) Combined Sewer Overflow Control programs. The EPA's 2003 National Clean Water Act Recognition Awards winners are listed below by category.

| Sub-category
Operations and Maintenance Excellence Awards
First Place:
South Cobb Water Reclamation Facility, Mableton, Georgia | Large Advanced Plant.
Kalispell Advanced Wastewater Treatment Plant, Kalispell, Montana | Medium Advanced Plant.
Saginaw Chippewa Indian Tribe Wastewater Treatment Plant, Isabella Reservation, Mount Pleasant, Michigan | Small Advanced Plant.
Buckman Wastewater Treatment Facility, Jacksonville Electric Authority Jacksonville, Florida | Large Secondary Plant—tie.
Central Contra Costa Sanitary District, Martinez, California | Large Secondary Plant—tie.
Logan Township Municipal Utilities Authority, Bridgeport, New Jersey | Medium Secondary Plant.
Antrim Wastewater Treatment Facility, Antrim, New Hampshire | Small Secondary Plant.
Eielson Air Force Base Wastewater Treatment Facility, Eielson Air Force Base, Alaska | Large Non-discharging Plant.
Etowah Water and Sewer Authority, Dawsonville, Georgia | Small Non-discharging Plant.
Lisbon Wastewater Treatment Facility, Lisbon, New Hampshire | Most Improved Plant.
Second Place:
Rockaway Valley Regional Sewerage Authority, Boonton, New Jersey | Large Advanced Plant.
New Canaan Water Pollution Control Facility, New Canaan, Connecticut | Medium Advanced Plant.
Village of Johnson Wastewater Treatment Facility, Johnson, Vermont | Small Advanced Plant.
Atlantic County Utilities Authority, Atlantic City, New Jersey | Large Secondary Plant.
South Kingstown Regional Wastewater Treatment Facility, Narragansett, Rhode Island | Medium Secondary Plant.
Town on Pine Bluffs Sewer, Pine Bluffs, Wyoming | Small Secondary Plant.
St. Joe-Spencerville Regional Sewer District, Saint Joe, Indiana | Most Improved Plant.
Biosolids Management Excellence Awards
First Place:
Littleton/Englewood Wastewater Treatment Facility, Englewood, Colorado | Large Operating Projects.
Second Place:
City of Twin Falls Wastewater Treatment Facility, Twin Falls, Idaho | Large Operating Projects.
Special Recognition:
City of Los Angeles Department of Public Works, Bureau of Sanitation and Engineering & the Exceptional Quality Biosolids Task Force, Los Angeles, California
Pretreatment Program Excellence Awards
First Place:
South Adams County Water and Sanitation District, Commerce City, Colorado | 0-25 SIUs.
Metro Wastewater Reclamation District, Denver, Colorado | 26-100 SIUs.
Passaic Valley Sewerage Commissioners Industrial and Pollution Control Department, Newark, New Jersey | Greater than 100 SIUs.
Second Place:
Sunnyvale Water Pollution Control Plant, Sunnyvale, California | 26-100 SIUs.
King County Department of Natural Resources and Parks, Wastewater Treatment Division, Seattle, Washington | Greater than 100 SIUs.
Storm Water Management Excellence Awards
First Place:
Ventura County Watershed Protection Division, Ventura County, California | Municipal.
UTC Fuel Cells, South Windsor, Connecticut | Industrial.
Second Place:
San Antonio Water System Storm Water Program, San Antonio, Texas | Municipal.
Combined Sewer Overflow (CSO) Control Awards
First Place:
City of Bangor, Maine | Municipal.
Second Place:
Philadelphia Water Department, Philadelphia, Pennsylvania | Municipal.

Dated: September 12, 2003.
James A. Hanlon,
Director, Office of Wastewater Management.

[FR Doc. 03-24010 Filed 9-18-03; 12:01 pm]

BILLING CODE 6560-50-P